LEGAL SERVICES CORPORATION

45 CFR Part 1611

Income Level for Individuals Eligible for Assistance

AGENCY: Legal Services Corporation.

ACTION: Correcting amendments.

SUMMARY: The Legal Services Corporation (Corporation) published a document in the Federal Register on February 5, 2014 (79 FR 6836), revising Corporation rules. The heading for the table in Appendix A to Part 1611 of this document incorrectly lists the information as the Legal Services Corporation 2013 Income Guidelines, rather than the 2014 Income Guidelines. This document corrects the final regulation by revising Appendix A to Part 1611.

DATES: Effective date: February 14, 2014.

FOR FURTHER INFORMATION CONTACT: Stefanie K. Davis, Assistant General Counsel, Legal Services Corporation, 3333 K St. NW., Washington, DC 20007; (202) 295-1563; sdavis@lsc.gov.

SUPPLEMENTARY INFORMATION: This document corrects the final rule published in the Federal Register on February 5, 2014.

List of Subjects in 45 CFR Part 1611

Grant programs—Law, Legal services, Financial eligibility.

Accordingly, 45 CFR part 1611 is corrected by making the following correcting amendments:

PART 1611—ELIGIBILITY

1. The authority citation for part 1611 continues to read as follows:

Authority: 42 U.S.C. 2996e(b)(1), 2996e(b)(3), 2996f(a)(1), 2996f(a)(2), 2996g(e); Section 509(h) of Pub. L. 104-134, 110 Stat. 1321 (1996); Pub. L. 105-119, 11 Stat. 2512 (1998).

2. Amend Appendix A to part 1611 by revising the first table to read as follows:

Appendix A to Part 1611—Income Level for Individuals Eligible for Assistance

Legal Services Corporation 2014 Income Guidelines *
Size of household | 48 Contiguous states and the District of Columbia | Alaska | Hawaii
1 | $14,588 | $18,225 | $16,775
2 | 19,663 | 24,575 | 22,613
3 | 24,738 | 30,925 | 28,450
4 | 29,813 | 37,275 | 34,288
5 | 34,888 | 43,625 | 40,125
6 | 39,963 | 49,975 | 45,963
7 | 45,038 | 56,325 | 51,800
8 | 50,113 | 62,675 | 57,638
For each additional member of the household in excess of 8, add: | 5,075 | 6,350 | 5,838
* The figures in this table represent 125% of the poverty guidelines by household size as determined by DHHS.

* * * * *

Legal Services Corporation.
Stefanie K. Davis,
Assistant General Counsel.

[FR Doc. 2014-03273 Filed 2-13-14; 8:45 am]

BILLING CODE 7050-01-P